DEPARTMENT OF COMMERCE

National Oceanic and Atmospheric Administration

RIN 0648-XG329

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Citizen Science Operations Committee to address development of the Citizen Science Program Standard Operating Policies and Procedures.

DATES: The Citizen Science Operations Committee meeting will be held on Wednesday, August 8, 2018, from 1 p.m. until 5 p.m. and on Thursday, August 9, 2018, from 8:30 a.m. until 3 p.m.

ADDRESSES:

Meeting address: The meeting will be held at the Council office, 4055 Faber Place Drive, Suite 201, N. Charleston, SC 29405.

Council address: South Atlantic Fishery Management Council, 4055 Faber Place Drive, Suite 201, N. Charleston, SC 29405.

FOR FURTHER INFORMATION CONTACT: Amber Von Harten, Citizen Science Program Manager, SAFMC; phone: (843) 302-8433 or toll free: (866) SAFMC-10; fax: (843) 769-4520; email: amber.vonharten@safmc.net.

SUPPLEMENTARY INFORMATION: The Council created a Citizen Science Advisory Panel Pool in June 2017. The Council appointed members of the Citizen Science Advisory Panel Pool to five Action Teams in the areas of Volunteers, Data Management, Projects/Topics Management, Finance, and Communication/Outreach/Education to develop recommendations on program policies and operations for the Council's Citizen Science Program.

The Citizen Science Program Blueprint, a framework document outlining the organizational structure of the Program, identified a Citizen Science Operations was needed to develop Standard Operations Policies and Procedures (SOPPs) for the Citizen Science Program. Recommendations from the Citizen Science Action Teams would be used to develop the SOPPs. The Council appointed members to the Citizen Science Operations Committee in June 2018 and the Operations Committee will meet to develop Program SOPPs that will be reviewed by the Council's Citizen Science Committee for adoption.

Items to be addressed during this meeting:

1. Citizen Science Program Overview

2. Development of Citizen Science Program SOPPs

3. Transition Plan for Citizen Science Advisory Panel Pool and Action Teams

4. Other Business

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 18, 2018.
Rey Israel Marquez,
Acting Deputy Director, Office of Sustainable Fisheries, National Marine Fisheries Service.

[FR Doc. 2018-15663 Filed 7-20-18; 8:45 am]

BILLING CODE 3510-22-P